DEPARTMENT OF ENERGY

Federal Energy Regulatory Commission

Notice of Settlement Agreement and Soliciting Comments

October 24, 2003.

Take notice that the following settlement agreement has been filed with the Commission and is available for public inspection.

a. Type of Application: Settlement Agreement.

b. Project No.: 637-022.

c. Date Filed: October 17, 2003.

d. Applicant: Public Utility District No. 1 of Chelan County.

e. Name of Project: Lake Chelan Hydroelectric Project.

f. Location: Located on the Chelan River, near the City of Chelan, in Chelan County, Washington.

g. Filed Pursuant to: Rule 602 of the Commission's Rules of Practice and Procedure, 18 CFR 385.602.

h. Applicant Contact: Mr. Gregg Carrington, Public Utility District No. 1 of Chelan County, 327 North Wenatchee Avenue, Wenatchee, WA, 98801. 1-888-663-8121.

i. FERC Contact: David Turner at (202) 502-6091, or by e-mail at david.turner@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426.

Under the Commission's Rules of Practice, intervenors in the relicensing proceeding filing documents with the Commission must serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http:www.ferc.gov) under the “e-filing” link.

k. Chelan PUD filed the Comprehensive Settlement Agreement on behalf of itself and 9 other stakeholders. The Settlement Agreement is intended to resolve, among the signatories, all issues related to Chelan PUD's pending Application for New License for the Lake Chelan Hydroelectric Project, including fish, water quality certification, wildlife and recreation. Chelan PUD requests that the Commission approve the Settlement Agreement and incorporate the proposed license articles in Appendix A of the Settlement Agreement into a new license for the project.

l. A copy of the Settlement Agreement is available for review at the Commission in the Public Reference Room or may be viewed on the Commission's Web site at http://www.ferc.gov, using the eLibrary link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Magalie R. Salas,
Secretary.

[FR Doc. E3-00147 Filed 10-30-03; 8:45 am]

BILLING CODE 6717-01-P